OFFICE OF THE UNITED STATES TRADE REPRESENTATIVE

Trade Policy Staff Committee: Public Comments Regarding the WTO Doha Development Agenda (DDA) and the WTO Dispute Settlement Understanding (DSU) Negotiations

AGENCY: Office of the United States Trade Representative.

ACTION: Notice and request for comments.

SUMMARY: The Trade Policy Staff Committee (TPSC) is requesting written public comments on general U.S. negotiating objectives as well as country-, product-, and service-specific priorities for the multilateral negotiations and work program in the Doha Development Agenda (DDA) negotiations conducted under the auspices of the World Trade Organization. The TPSC is seeking to supplement and refine positions in the light of progress to date in the negotiations, notably, the Decision Adopted by the WTO General Council on 1 August 2004 on the Doha Work Program. The TPSC is also seeking comments on proposals advanced in the WTO review of the Dispute Settlement Understanding.

DATES: Public comments are due by January 31, 2005.

ADDRESSES: Submissions by electronic mail: FR0514@USTR.EOP.GOV. Submissions by facsimile: Gloria Blue, Executive Secretary, Trade Policy Staff Committee, at (202) 395-6143. The public is strongly encouraged to submit documents electronically rather than by facsimile. (See requirements for submissions below.)

FOR FURTHER INFORMATION CONTACT: General inquiries should be made to the USTR Office of WTO and Multilateral Affairs at (202) 395-6843; calls on individual subjects will be transferred as appropriate. Procedural inquiries concerning the public comment process should be directed to Gloria Blue, Executive Secretary, Trade Policy Staff Committee, Office of the U.S. Trade Representative (USTR), (202) 395-3475. Further information on the WTO, including the declarations, decisions referred to in this notice or proposals tabled, can be obtained via the internet at the WTO Web site, http://www.wto.org, and/or the USTR Web site, http://www.ustr.gov. The 2004 President's Annual Report on the Trade Agreements Program, which is available on the USTR website, contains extensive information on the WTO, the Fifth WTO Ministerial Meeting in Cancún, Mexico, and the status of work in the WTO.

SUPPLEMENTARY INFORMATION: Doha Development Agenda: The next meeting of the WTO at the ministerial-level will be in December 2005. Work in 2005 is expected to focus on the technical issues necessary to move the agenda forward, particularly in the light of the WTO General Council's Decision of 1 August 2004, which contained frameworks for the agriculture and non-agricultural market access negotiations, further directions for a number of areas in the negotiation including services, and the launch of negotiations on trade facilitation. Accordingly, the TPSC seeks to provide a new opportunity for public comment to help guide U.S. participation in the on-going negotiations.

This request for comment supplements earlier requests for comments, and there is no need to resubmit comments previously provided to the TPSC. Submissions were received in response to notices seeking: (1) Public Comments Regarding the Doha Multilateral Trade Negotiations and Agenda in the World Trade Organization, published in 67 FR No. 53, March 19, 2002; (2) Public Comments on Preparations for the Fourth Ministerial Meeting of the World Trade Organization, November 9-13, 2001 in Doha, Qatar, published in 66 FR 18142, April 5, 2001; (3) Public Comments for Mandated Multilateral Trade Negotiations on Agriculture and Services in the WTO and Priorities for Future Market Access Negotiations on Non-Agricultural Products, published in 65 FR 16450, March 28, 2000; and, (4) Public Comments on Institutional Improvements to the World Trade Organization (WTO), Particularly with Respect to the Transparency of its Operations and Outreach to Civil Society, which included a solicitation of comments regarding the dispute settlement operations of the WTO and was published in 65 FR 36501, June 8, 2000. New or updated submissions are welcome. The TPSC will review supplemental or new comments, in conjunction with earlier submissions, in developing positions.

The U.S. International Trade Commission has provided to the TPSC the public comments received on agricultural and non-agricultural products as part of its investigation No. 332-440, Probable Economic Effects on Reduction or Elimination of U.S. Tariffs, August 9, 2002 (Confidential Report). Hence, these comments need not be resubmitted.

Comments are invited with as much specificity as possible on such subjects as:

(1) General, commodity or service-specific negotiating objectives;

(2) Country, service or product-specific export interests;

(3) Specific tariff or non-tariff barriers the respondent is facing in key export markets;

(4) Experience with particular foreign measures that impede U.S. market access; and,

(5) The methods to be used in negotiating market access improvements.

Information should be as detailed as possible, including specific tariff numbers for products under the Harmonized System (HS) wherever possible, product or service descriptions, current tariff levels faced in key export markets, and the target tariff rate the respondent is requesting. Specific recommendations or suggestions on the type of tariff-cutting mechanism to be used in the negotiations are also welcome. To assure a thorough and orderly review, the TPSC has identified the following headings under which comments may be submitted. Submissions should identify the relevant subject area or areas to which comments apply. These include:

(A) Agriculture—The framework for the agriculture negotiations is contained in Annex A of the 1 August WTO General Council Decision.

(B) Non-agricultural or Industrial Market Access (NAMA)—The framework for the NAMA negotiations is contained in Annex B of the 1 August WTO General Council Decision.

(C) Services—Recommendations for the negotiations in services are contained in Annex C of the 1 August WTO General Council Decision.

(D) Trade Facilitation—The 1 August 2004 Decision by the WTO General Council launched multilateral negotiations on Trade Facilitation, in accordance with modalities set forth in Annex D to the Decision.

The 1 August 2004 Decision by the WTO General Council also addressed certain development elements of the Doha Work Program (e.g., special and differential treatment, trade-related technical assistance and implementation-related issues) and the work of other negotiating bodies (Rules, Trade and the Environment and Trade-Related Intellectual Property Rights). The TPSC welcomes comments on U.S. negotiating objectives on these elements of the Doha Work Program as well.

Dispute Settlement—The TPSC also calls attention to the progress to date in the negotiations to clarify and improve the Dispute Settlement Understanding. Proposals related to the DSU can be found at http://www.wto.org in the document series “TN/DS/W”. The two proposals of the United States, for example, are found in documents TN/DS/W/46 (providing for public access to dispute settlement proceedings) and TN/DS/W/52 (a joint proposal with Chile on ensuring sufficient flexibility and Member control in the procedures to facilitate resolving disputes).

In document TN/DS/W/52, the United States proposed, as item (f) of that proposal, “providing some form of additional guidance to WTO adjudicative bodies concerning (i) the nature and scope of the task presented to them (for example when the exercise of judicial economy is most useful) and (ii) rules of interpretation of the WTO agreements.” The TPSC would welcome comments on areas in which to provide such guidance and the form such guidance should take.

In addition, proposals have spanned a broad range of topics from a wide spectrum of Members, both those that are frequent users of the dispute settlement system and those who have less experience with it. Proposals have been submitted on almost every phase of the dispute settlement process. For example, in addition to the U.S. proposals, a number of proposals have been made to require that a compliance panel must first review any measures taken to comply before a complaining party could request authorization to suspend equivalent concessions. Proposals have also been made to provide for a remand from the Appellate Body to a panel where there were insufficient factual findings to allow the Appellate Body to make a legal finding on a claim. Some of the proposals would result in a significant lengthening of the dispute settlement process. Proposals have also included ways in which to use time in the process more efficiently. The TPSC would welcome comments on any of the proposals made.

Written Submissions: Comments should state clearly the objective(s) and should contain detailed information supporting the objective(s). Submissions should clearly indicate the general topic (e.g., agriculture, services, non-agricultural market access, etc.). As noted in the sections on services, agriculture and industrial market access, the provision of supplemental technical information would be helpful. This information should be provided in an attachment containing a spreadsheet or table in Microsoft Word, Word Perfect, Excel, Quatro Pro or MS Access.

Persons submitting comments may either send one copy by fax to Gloria Blue, Executive Secretary, Trade Policy Staff Committee, at (202) 395-6143 or transmit a copy electronically to FR0514@USTR.EOP.GOV, with “Doha Work Program” in the subject line. For documents sent by fax, USTR requests that the submitter provide a confirmation copy electronically. The public is strongly encouraged to submit documents electronically rather than by facsimile. USTR encourages the use of Adobe PDF format to submit attachments to an electronic mail. Interested persons who make submissions by electronic mail should not provide separate cover letters; information that might appear in a cover letter should be included in the submission itself. Similarly, to the extent possible, any attachments to the submission should be included in the same file as the submission itself, and not as separate files.

Comments should be submitted electronically no later than January 31, 2005.

Business confidential information will be subject to the requirements of 15 CFR 2003.6. Any business confidential material must be clearly marked as such and must be accompanied by a non-confidential summary thereof. A justification as to why the information contained in the submission should be treated confidentially should also be contained in the submission. In addition, any submissions containing business confidential information must clearly be marked “Business Confidential” at the top and bottom of the cover page (or letter) and each succeeding page of the submission. The version that does not contain business confidential information should also be clearly marked at the top and bottom of each page, “Public Version” or “Non-Confidential.”

Written comments submitted in connection with this request, except for information granted “business confidential” status pursuant to 15 CFR 2003.6 will be available for public inspection in the USTR Reading Room, Office of the United States Trade Representative. An appointment to review the file can be made by calling (202) 395-6186. The Reading Room is open to the public from 10 a.m. to 12 noon and from 1 p.m. to 4 p.m. Monday through Friday.

Carmen Suro-Bredie,
Chairman, Trade Policy Staff Committee.

[FR Doc. 04-27037 Filed 12-8-04; 8:45 am]

BILLING CODE 3190-W5-P